DEPARTMENT OF HEALTH AND HUMAN SERVICES

National Institutes of Health

Office of the Director, National Institutes of Health; Notice of Meeting

Notice is hereby given of a meeting of the Big Data to Knowledge Multi-Council Working Group.

The teleconference meeting will be open to the public as indicated below. Individuals who plan to attend and need special assistance, such as sign language interpretation or other reasonable accommodations, should notify the Contact Person listed below in advance of the meeting.

Name of Working Group: Big Data to Knowledge Multi-Council Working Group.

Date: April 25, 2016.

Open: 11:00 a.m. to 12:30 p.m.

Agenda: April 2016 MCWG Open Session, Discussion will review current Big Data to Knowledge (BD2K) activities and newly proposed BD2K initiatives.

Place: Teleconference, Join WebEx meeting, Telephone Number: 1-877-668-4493, Meeting Number: 622 421 867.

Note: This portion of the meeting is open to the public but is being held by teleconference only. No physical meeting location is provided for any interested individuals to listen to committee discussions. Any individual interested in listening to the meeting discussions must call: 1-877-668-4493 and use Meeting number: 622 421 867 for access to the meeting. Participants can also join in on the viewing the presentation by clicking the following link Join WebEx meeting.

Any interested person may file written comments with the working group or submit questions by sending an email to the Contact Person listed on this notice. The email should include the name, addresses, telephone number and when applicable, the business or professional affiliation of the interested person.

Closed: 12:30 p.m.-3:30 p.m.

Agenda: April 2016 MCWG Closed Session, Discussion will focus on review of proposed Funding Plans for BD2K Funding Opportunity Announcements.

Place: Teleconference.

Contact Person: Tonya Scott, Scientific Program Analyst, Office of the Associate Director of Data Science (ADDS), National Institutes of Health, 1 Center Drive, Room 325, Bethesda, MD 20892, email: tonya.scott@nih.gov, Telephone: 301-402-9817.

Additional information on data science is available at: https://datascience.nih.gov/index and additional information on the Working Group is available at: https://datascience.nih.gov/bd2k/about/org/MCWG.

Dated: March 29, 2016.
Anna Snouffer,
Deputy Director, Office of Federal Advisory Committee Policy.

[FR Doc. 2016-07542 Filed 4-1-16; 8:45 am]

BILLING CODE 4140-01-P